DEPARTMENT OF ENERGY

Federal Energy Regulatory Commission

Notice of Application to Amend License and Soliciting Comments, Motions To Intervene, and Protests

April 5, 2000.

a. Application Type: Application to Amend License for the Tapoco Project.

b. Project No: 2169-013.

c. Date Filed: February 24, 2000.

d. Applicant: Alcoa Power Generating Inc., Tapoco Division.

e. Name of Project: Tapoco Hydroelectric Project.

f. Location: On the Cheoah and Little Tennessee Rivers, in Graham and Swain Counties, North Carolina, and Blount and Monroe Counties, Tennessee. The project utilize approximately 370 acres Nanthahala National Forest lands.

g. Filed Pursuant to: Federal Power Act, 16 U.S.C. 791(a)-825(r).

h. Applicant Contact: B. Julian Polk, Alcoa Power Generating Inc., Tapoco Division, 300 North Hall Road, Alcoa, TN 37701-2516 (423) 977-3321.

i. FERC Contact: Any questions on this notice should be addressed to R. Feller at (202) 219-2796 or by e-mail at rainer.feller@ferc.fed.us.

j. Deadline for filing comments and/or motions: 30 days from the issuance date of this notice.

Please include the project number (2169-013) on any comments or motions filed.

k. Description of Filing: Alcoa Power Generating Inc., Tapoco Division proposes to perform upgrades of the hydroelectric generation units at two of the project's developments. The proposed activities consist of replacing the existing turbine runners and rewinding of the generators. The proposed upgrades would increase the net project capacity from 326.5 MW to 359.0 MW, and the net hydraulic capacity of the project would increase from 33,456 cfs to 35,132 cfs.

l. Location of the Application: A copy of the application is available for inspection and reproduction at the Commission's Public Reference Room, located at 888 First Street, NE, Room 2A, Washington, D.C. 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or motion to intervene in accordance with the requirements of Rules of Practice and Procedure,18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service or Responsive Documents—Any filing must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representative.

Linwood A. Watson, Jr.,
Acting Secretary.

[FR Doc. 00-8901 Filed 4-10-00; 8:45 am]

BILLING CODE 6717-01-M